ENVIRONMENTAL PROTECTION AGENCY

[FRL-7160-6]

Agency Information Collection Activities: Proposed Collection; Comment Request; Hazardous Remediation Waste Management Requirements (HWIR-Media)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): “Hazardous Remediation Waste Management Requirements (HWIR-Media),” EPA ICR Number 1775.03; OMB Control Number 2050-0161; Expiration Date 06/30/2002. Before submitting the ICR to OMB for review and approval, EPA is soliciting comments on specific aspects of the proposed information collection as described below.

DATES: Comments must be submitted on or before May 20, 2002.

ADDRESSES: Commenters must send an original and two copies of their comments referencing Docket Number F-2002-MH2P-FFFFF to RCRA Docket Information Center, Office of Solid Waste (5305W) United States Environmental Protection Agency, Ariel Rios Building, 1200 Pennsylvania Avenue, NW, Washington, DC, 20460. Hand deliveries of comments should be made to the Arlington, VA address listed below. Comments may also be submitted electronically by sending electronic mail through the Internet to: rcra-docket@epamail.gov. Comments in electronic format should also be identified by the Docket Number F-2002-MH2P-FFFFF. All electronic comments must be submitted as an ASCII file avoiding the use of special characters and any form of encryption.

The official record for this action will be kept in paper form. Accordingly, EPA will transfer all comments received electronically into paper form and place them in the official record, which will also include all comments submitted directly in writing. The official record is the paper record maintained in the RCRA Information Center (the RIC address is listed above in this section).

Commenters should not submit any confidential business information (CBI) electronically. An original and two copies of CBI must be submitted under separate cover to: RCRA CBI Document Control Officer, Office of Solid Waste (5303W), United States Environmental Protection Agency, Ariel Rios Building, 1200 Pennsylvania Avenue, NW, Mailcode 5303W, Washington, DC, 20460.

Public comments and supporting materials are available for viewing in the RCRA Information Center (RIC), located at Crystal Gateway, First Floor, 1235 Jefferson Davis Highway, Arlington, Virginia. The RIC is open from 9 a.m. to 4 p.m. Monday through Friday, excluding federal holidays. To review docket materials, it is recommended that the public make an appointment by calling (703) 603-9230. The public may copy a maximum of 100 pages from any regulatory docket at no charge. Additional copies are $0.15/page.

This notice and the supporting documents that detail the Reporting and Record keeping Requirements for the Hazardous Remediation Waste Management Requirements (HWIR-Media) Final Rule ICR are also available.

FOR FURTHER INFORMATION CONTACT: For general information, contact the RCRA Hotline at 800 424-9346 or TDD 800 553-7672 (hearing impaired). In the Washington, DC, metropolitan area, call 703 412-9810 or TDD 703 412-3323.

For more detailed information on specific aspects of this rulemaking contact Mike Fitzpatrick by phone at (703) 308-8411, by facsimile at (703) 308-8609, by mail at the Office of Solid Waste (5303W), United States Environmental Protection Agency, Ariel Rios Building, 1200 Pennsylvania Avenue, NW, Mailcode 5303W, Washington, DC, 20460 or e-mail at fitzpatrick.mike@epa.gov.

SUPPLEMENTARY INFORMATION: Affected entities: Entities potentially affected by this action are those owners or operators of facilities that wish to voluntarily clean up contamination of their site.

Title: “Hazardous Remediation Waste Management Requirements (HWIR-Media)” OMB Control No. 2050-0161; EPA ICR No. 1775.03 expiring 06/30/02.

Abstract: All information collection activities required by this rule are authorized by sections 3004 and 3005 of the Solid Waste Disposal Act of 1970, as amended by the Resource Conservation and Recovery Act of 1976 (RCRA), as amended by the Hazardous and Solid Waste Amendments of 1984 (SHWA), 42 U.S.C. 6912(a), 6921, 6924, 6925, 6926, and 6927. EPA believes the information collection for this rule is necessary to balance streamlined regulations of remediation wastes with the Agency's responsibility to protect human health and the environment. The respondents are primarily owners or operators of facilities that wish to voluntarily clean up contamination of their site.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA believes that the previous ICR (ICR Number 1775.02) overestimated the number of respondents reading the regulations, since ICRs need only burden respondents for reading the regulations in association with the collection of information. Given this, the current ICR assumes that 176 respondents will perform the paperwork requirements and hence will read the regulations. This is consistent with all other ICRs in the Office of Solid Waste. For hazardous remediation waste management sites that wish to utilize the flexibility provided by the optional requirements of the HWIR-media Rule, the estimated total annual hour burden for this information collection is 4,959 hours, which is about 29,000 hours lower than the previous ICR's burden estimate. The estimated total annual cost burden for this information collection is $334,886, which includes labor, capital, operations and maintenance, and purchased service costs. The total burden over the three year period of this ICR is estimated to be 14,877 hours and $1,004,658.

EPA estimates that, on average, 30 sites will be subject to the requirements in 40 CFR 264.1(j) and part 270, subpart H (i.e., the requirements for sites with RAPs) over the three-year period of this ICR. Note that this ICR addresses only non-permitted sites under 40 CFR 264.1(j) and part 270, subpart H. A site may conduct cleanup through a RAP, permit, or other specified mechanism. Permitted facilities would obtain a RAP by modifying their permit. These activities are already addressed in “Part B Permit Application, Permit Modifications, and Special Permits,” ICR Number 1573. Therefore, this ICR addresses only non-permitted sites under the RAP requirements.

EPA also estimated the number of owners/operators of hazardous remediation waste management sites subject to the 40 CFR 264.554 requirements for staging piles. Based on the Biennial Reporting System (BRS) data, EPA estimates that, currently, there are 87 existing hazardous remediation waste management sites with staging piles. Additionally, EPA estimates that, each year, 59 owners/operators of non-permitted hazardous remediation waste management sites will seek a new staging pile designation.

EPA estimates that 176 owners/operators of hazardous remediation waste management sites (i.e., 30 + 87 + 59 = 176) will be subject to the requirements in this ICR and will, therefore, read the regulations each year.

For owners/operators of hazardous remediation waste management sites subject to the 40 CFR 264.1(j) and part 270, subpart H requirements, the reporting burden is estimated to be 27.33 hours per respondent per year. This hourly burden includes time for preparing and submitting a RAP application, information to modify a RAP, and information to transfer a RAP. The recordkeeping burden is estimated to be 42.13 hours per respondent per year. This hourly burden includes time for reading the regulations and maintaining documentation (e.g., waste analyses results, contingency and emergency plan, file of RAP documents) on site.

For owners/operators of hazardous remediation waste management sites subject to the 40 CFR 264.554 requirements for staging piles, the reporting burden is estimated to be 7.08 hours per year per respondent. This hourly burden includes time for preparing and submitting information for a staging pile designation and documentation supporting a staging pile extension. The recordkeeping burden is estimated to be 12.61 hours per respondent per year. This hourly burden includes time for reading the regulations and complying with the recordkeeping requirements in section 264.554(d)(1)(iii).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 11, 2002.
Elizabeth Cotsworth,
Director, Office of Solid Waste.

[FR Doc. 02-6723 Filed 3-19-02; 8:45 am]

BILLING CODE 6560-50-P